DEPARTMENT OF THE INTERIOR

Bureau of Land Management

[OR-010-1020-PK; HAG 04-0215]

Council Meeting Notice

AGENCY: Bureau of Land Management (BLM), Lakeview District.

ACTION: Meeting Notice for the Southeast Oregon Resource Advisory Council.

SUMMARY: The Southeast Oregon Resource Advisory Council (SEORAC) will hold an all day field tour on Monday, August 23, 2004 starting at 7 a.m. Pacific Time (PT) at the Lakeview District Office. Tuesday, August 24, 2004 the meeting will be from 8 a.m. to 5 p.m. (PT). Members of the public are invited to attend the Lakeview meeting in person at the Lakeview District Office, Conference Room, 1301 South G Street, Lakeview, Oregon 97630. Public comment is scheduled for 9:15 a.m. on Tuesday, August 24, 2004. Information from the public, to be distributed to the Council members is requested in written format 10 days prior to the Council meeting.

The meeting topics that may be discussed by the Council include a discussion of issues within Southeast Oregon related to: Tour of Beaty Butte Allotment and review; Welcome to New Members and RAC Administration duties; RAC Charter review for possible boundary changes; Budget Process update; Healthy Forest Initiative (HFI)—Healthy Forest Restoration Act projects (HFRA) and determining the RAC participation with District and Forest projects; The RAC role with Business Plan for the Lakeview Resource Management Plan; Standards and Guidelines update; Differences in agencies Off Road Vehicles policies; Sub committee reports and status; Federal Officials' update and other issues that may come before the Council.

FOR FURTHER INFORMATION CONTACT: Additional information concerning the SEORAC tour or meeting may be obtained from Pam Talbott, Contact Representative, Lakeview Interagency Office, 1301 South G Street, Lakeview, OR 97630 (541) 947-6107, or ptalbott@or.blm.gov and/or from the following Web site http://www.or.blm.gov/SEOR-RAC.

Dated: July 7, 2004.
M. Joe Tague,
Associate District Manager.

[FR Doc. 04-16491 Filed 7-20-04; 8:45 am]

BILLING CODE 4310-33-P